DEPARTMENT OF DEFENSE

Office of the Secretary

Defense Health Board; Notice of Federal Advisory Committee Meeting

AGENCY: Department of Defense (DoD).

ACTION: Notice of Federal Advisory Committee meeting.

SUMMARY: The Department of Defense is publishing this notice to announce that the following Federal Advisory Committee meeting of the Defense Health Board will take place as a webcast with an option to view the webcast in person at the location provided in the ADDRESSES section.

DATES: Monday, March 3, 2014, from 10:00 a.m. to 2:00 p.m. (Open Session).

ADDRESSES: If you are unable to log in to the webcast, there is limited space available to attend at the Defense Health Headquarters (DHHQ), Pavilion Salons B-C, 7700 Arlington Blvd., Falls Church, Virginia 22042 (escort required; see guidance in the SUPPLEMENTARY INFORMATION section, “Public's Accessibility to the Meeting.”)

FOR FURTHER INFORMATION CONTACT: The Director of the Defense Health Board is Ms. Christine Bader, 7700 Arlington Boulevard, Suite 5101, Falls Church, Virginia 22042, (703) 681-6653, Fax: (703) 681-9539, Christine.bader@dha.mil. For meeting information and registration, please contact Ms. Kendal Brown, 7700 Arlington Boulevard, Suite 5101, Falls Church, Virginia 22042, Kendal.Brown.ctr@dha.mil, (703) 681-6670, Fax: (703) 681-9539.

SUPPLEMENTARY INFORMATION: This meeting is being held under the provisions of the Federal Advisory Committee Act of 1972 (5 U.S.C., Appendix, as amended), the Government in the Sunshine Act of 1976 (5 U.S.C. 552b, as amended), and 41 CFR 102-3.150, and in accordance with section 10(a)(2) of the Federal Advisory Committee Act.

Webcast Instructions

Please follow the instructions below to join the webcast. If you are having technical difficulties, please contact Ms. Kendal Brown at the number listed in the FOR FURTHER INFORMATION CONTACT section.

Step 1: Dial-In (note: Required to have audio).

U.S. & Canada: 1-(800)-851-3547.

Access Code: 9578414.

Step 2: Web Login: https://cc.callinfo.com/r/1qdsxi6nxpjuv&eom and enter your full name and email address.

Please note: It is required that all participants provide the phone number from which you plan to dial-in to Ms. Kendal Brown at the number listed in the FOR FURTHER INFORMATION CONTACT section, in order to identify participants.

Purpose of the Meeting

The purpose of the meeting is for the Subcommittees to provide updates on the status of their individual taskings before the DHB.

Agenda

Pursuant to 5 U.S.C. 552b, as amended, and 41 CFR 102-3.140 through 102-3.165 and subject to availability of space, the DHB meeting is open to the public from 10:00 a.m. to 2:00 p.m. on March 3, 2014. On March 3, the DHB will receive briefings from the Subcommittees to include Sustainment and Advancement of Amputee Care, Dual Loyalties of Medical Providers, Deployment Pulmonary Health, and Theater Trauma Lessons Learned. Additionally, the DHB will receive briefings on the Healthy Base Initiative, DoD-VA Program and Collaboration, and a Commander's Brief on the Defense Health Agency.

Availability of Materials for the Meeting

A copy of the agenda or any updates to the agenda for the March 6, 2014 meeting, as well as any other materials presented in the meeting, may be obtained at the meeting if attending in person or by contacting Ms. Kendal Brown at the number listed in the FOR FURTHER INFORMATION CONTACT section if participating via Webcast.

Public's Accessibility to the Meeting

Pursuant to 5 U.S.C. 552b, as amended, and 41 CFR 102-3.140 through 102-3.165 and subject to availability of space, this meeting is open to the public. The webcast is unlimited, however seating is limited and on a first-come basis. All members of the public who wish to attend the public meeting must contact Ms. Kendal Brown at the number listed in the FOR FURTHER INFORMATION CONTACT section no later than 12:00 p.m. on Friday, February 21 to register and make arrangements for a DHHQ escort, if attending in person. Public attendees requiring escort should arrive at the DHHQ Visitor's Entrance with sufficient time to complete security screening no later than 9:30 a.m. on March 3. To complete security screening, please come prepared to present two forms of identification and one must be a picture identification card.

Special Accommodations

Individuals requiring special accommodations to access the public meeting in person should contact Ms. Kendal Brown at least five (5) business days prior to the meeting so that appropriate arrangements can be made.

Written Statements

Any member of the public wishing to provide comments to the DHB may do so in accordance with 41 CFR 102-3.105(j) and 102-3.140 and section 10(a)(3) of the Federal Advisory Committee Act, and the procedures described in this notice.

Individuals desiring to provide comments to the DHB may do so by submitting a written statement to the DHB Designated Federal Officer (DFO) (see the FOR FURTHER INFORMATION CONTACT section). Written statements should address the following details: The issue, discussion, and a recommended course of action. Supporting documentation may also be included, as needed, to establish the appropriate historical context and to provide any necessary background information.

If the written statement is not received at least five (5) business days prior to the meeting, the DFO may choose to postpone consideration of the statement until the next open meeting.

The DFO will review all timely submissions with the DHB President and ensure they are provided to members of the DHB before the meeting that is subject to this notice. After reviewing the written comments, the President and the DFO may choose to invite the submitter to orally present their issue during an open portion of this meeting or at a future meeting. The DFO, in consultation with the DHB President, may allot time for members of the public to present their issues for review and discussion by the Defense Health Board.

Dated: February 7, 2014.
Aaron Siegel,
Alternate OSD Federal Register Liaison Officer, Department of Defense.

[FR Doc. 2014-03102 Filed 2-12-14; 8:45 am]

BILLING CODE 5001-06-P